DEPARTMENT OF HEALTH AND HUMAN SERVICES

Administration for Children and Families

Submission for OMB Review; Native Employment Works (NEW) Program Plan Guidance and Report Requirements, (OMB No.: 970-0174)

AGENCY: Division of Tribal TANF Management, Office of Family Assistance, Administration for Children and Families; HHS.

ACTION: Request for public comment.

SUMMARY: The Administration for Children and Families (ACF) is requesting a three-year extension of the form OFA-0086, NEW Plan Guidance and NEW Program Report (OMB #0970-0174, expiration 7/31/2019). There are changes requested to these forms.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following:

Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The NEW program plan guidance documents specify the information needed to complete a NEW program plan and explains the process for plan submission every third year and to complete the annual program report. The program plan is the application for NEW program funding and documents how the grantee will carry out its NEW program. The program report provides HHS, Congress, and grantees information to document and assess the activities and accomplishments of the NEW program. ACF proposes to extend data collection with revisions, including the deletion of guidance for NEW programs included in Public Law 102-477 programs.

Respondents: Indian tribes and tribal coalitions that run NEW programs.

Annual Burden Estimates
Instrument | Number of respondents | Number of responses per respondent | Average burden hours per response | Annual burden hours
NEW program plan guidance for non-477 Tribes | ¹ 14 | 1 | 29 | 406
NEW program report | ² 42 | 1 | 15 | 630
¹ We estimate that 42 of the 78 NEW grantees will not include their NEW programs in Public Law 102-477 projects. 42 grantees divided by 3 (because grantees submit the NEW plan once every 3 years) = 14.
² We estimate that 42 of the 78 NEW grantees will not include their NEW programs in Public Law 102-477 projects and therefore will submit the NEW program report to HHS.

Estimated Total Annual Burden Hours: 1036 ³

³ Two additional programs joined the Public Law 102-477 since the publication of FR1, hence the burden is different.

Authority: 42 U.S.C. 612.

Mary B. Jones,
ACF/OPRE Certifying Officer.

[FR Doc. 2019-15909 Filed 7-25-19; 8:45 am]

BILLING CODE 4184-36-P